DEPARTMENT OF THE INTERIOR

Bureau of Reclamation

[INT-DES-04-3]

Platte River Recovery Implementation Program

AGENCY: Bureau of Reclamation, Interior.

ACTION: Notice of availability of the draft environmental impact statement.

SUMMARY: Pursuant to the National Environmental Policy Act (NEPA) of 1969 (as amended), the Bureau of Reclamation (Reclamation) and the U.S. Fish and Wildlife Service (Service) as lead agencies have prepared a draft programmatic environmental impact statement (DEIS) for the Platte River Recovery Implementation Program (Program). This DEIS also serves as the Biological Assessment necessary for consultation under Section 7 of the Endangered Species Act (ESA). In 1997, the States of Nebraska, Wyoming, and Colorado and the U.S. Department of the Interior (Interior) signed a Cooperative Agreement for Platte River Research and Other Efforts Relating to Endangered Species Habitats Along the Central Platte River, Nebraska (Cooperative Agreement). In this document, the signatories agreed to pursue a basinwide, cooperative approach to improve and maintain habitat for four threatened and endangered species—the whooping crane, interior least tern, piping plover, and pallid sturgeon (target species) in the Platte River in Nebraska.

DATES: A 60-day public review period commences with the publication of this notice, or until April 2, whichever comes later. Public hearings on the DEIS will be held during the month of March. Times and locations will be announced in the Federal Register and local media.

ADDRESSES: Written comments on, or requests for copies of, the DEIS should be addressed to Platte River EIS Office (PL-100), PO Box 25007, Denver, Colorado, 80225-0007; telephone: (303) 445-2096, or by sending an email request to platte@prs.usbr.gov. The document is available on the Internet at http://www.platteriver.org. Copies of the DEIS area also available for public inspection at the locations listed under the SUPPLEMENTARY INFORMATION section.

SUPPLEMENTARY INFORMATION: Reclamation and the Service have prepared this DEIS to analyze the impacts of the First Increment (13 years) of a proposed Program to benefit the target species and their habitat in the Platte River Basin and to provide compliance with the ESA for certain historic and future water uses in each State. The habitat objectives of the proposed Program include: improving flows in the Central Platte River through water re-regulation and conservation/supply projects; and protecting, restoring, and maintaining at least 10,000 acres of habitat in the Central Platte River area between Lexington and Chapman, Nebraska. The DEIS analyzes the impacts of four alternatives to implement the Program.

The programmatic DEIS focuses on impacts that the Program may have on hydrology, water quality, land, target species and their habitat, other species, hydropower, recreation, economics, and social and cultural resources. Subsequent NEPA and ESA documents required for implementation of specific Program actions will be tiered off of this document.

DEIS available for public inspection at the following locations:

• Bureau of Reclamation, Public Affairs Office, 1849 C Street, NW., Washington, DC 20240

• Bureau of Reclamation, Platte River EIS Office, 44 Union Blvd., Suite 100, Lakewood, CO 80228

• Bureau of Reclamation, Great Plains Regional Office, 316 N. 26th Street, Billings, MT 59101

• Bureau of Reclamation, Eastern Colorado Area Office, 11056 W. County Rd. 18E, Loveland, CO 80537-9711

• U.S. Fish and Wildlife Service, 203 W. 2nd Street, Grand Island, NE 68801

• U.S. Fish and Wildlife Service, 4000 Airport Parkway, Cheyenne, WY 82001

Libraries:

• Omaha Public Library, 215 South 15th Street, Omaha, NE 68102

• Scottsbluff Public Library, 1809 Third Avenue, Scottsbluff, NE 69361

• University of Nebraska at Kearney, Calvin T. Ryan Library, Kearney, NE 68849-2240

• University of Nebraska at Lincoln, Love Memorial Library, Lincoln, NE 68588-4100

• Grand Island Public Library, 211 North Washington, Grand Island, NE 68801

• North Platte Public Library, 120 West 4th Street, North Platte, NE 69101

• Goodall City Library, 203 W. A Street, Ogallala, NE 69153

• Natrona County Public Library, 307 East 2nd Street, Casper, WY 82601

• Wyoming State Library, 2301 Capitol Avenue, Cheyenne, WY 82002-0002

• University of Wyoming, Coe Library, 13th & Ivinson Streets, Laramie, WY 82071-3334

• Goshen County Library, 2001 East A Street, Torrington, WY 82240

• Carbon County Government Public Library, Rawlins, WY 82301

• Library, 2660 Peck Avenue, Riverton, WY 82501-2273

• University of Colorado, Boulder, Norlin Library, 1720 Pleasant Street, Boulder, CO 80309-0184

• Denver Public Library, 10 West 14th Avenue Parkway, Denver, CO 80204-2731

• Colorado State University, William E. Morgan Library, Fort Collins, CO 80523-1019

• University of Northern Colorado, James A. Michener Library, 501 20th Street, Greeley, CO 80639-0091

• Jefferson County Public Library, Lakewood Library, 10200 West 20th Avenue, Lakewood CO 80215-1402

• Julesburg Public Library, 320 Cedar Street, Julesburg, CO 80737-1545

• Sterling Public Library, 420 N. 5th Street, Sterling, CO 80751-0400

• Loveland Public Library, 300 N. Adams, Loveland, CO 80537-5754

• Fort Morgan Public Library, 414 Main Street, Fort Morgan, CO 80701-2209

• Garfield County Public Library, 413 9th Street, Glenwood Springs, CO 81601-3607

Public Disclosure Statement

Comments received in response to this notice will become part of the administrative record for this project and are subject to public inspection. Comments, including names and home addresses of respondents, will be available for public review. Individual respondents may request that Reclamation and the Service withhold their home address from public disclosure, which will be honored to the extent allowable by law. There also may be circumstances in which Reclamation and the Service would withhold a respondent's identity from public disclosure, as allowable by law. If you wish to have your name and/or address withheld, you must state this prominently at the beginning of your comment. Reclamation and the Service will make all submissions from organizations or businesses and from individuals identifying themselves as representatives or officials of organizations or businesses available for public disclosure in their entirety.

Dated: January 16, 2004.
Willie R. Taylor,
Director, Office of Environmental Policy and Compliance.

[FR Doc. 04-1554 Filed 1-23-04; 8:45 am]

BILLING CODE 4310-MN-P